DEPARTMENT OF EDUCATION

National Assessment Governing Board; Meeting

AGENCY: National Assessment Governing Board, Department of Education.

ACTION: Notice of open and closed meetings.

SUMMARY: This notice sets forth the agenda, time, and instructions to access or participate in the National Assessment Governing Board (hereafter referred to as Governing Board or Board) meetings scheduled for May 18-19, 2023, in Los Angeles, CA. This is a hybrid meeting, accessible both in person and virtually by advance registration 5 working days prior to each meeting via www.nagb.gov. This notice provides information about the meetings to members of the public who may be interested in attending the meetings and/or providing written comments related to the work of the Governing Board. Notice of the meetings is required under section 1009(a)(2) of 5 U.S.C. chapter 10 (Federal Advisory Committees).

ADDRESSES: Doubletree by Hilton Los Angeles Downtown, 120 South Los Angeles Street, Los Angeles, CA 90012.

DATES: The Quarterly Board Meeting will be held on the following dates:

• May 18, 2023, from 12:30 p.m. to 5:45 p.m., PDT

• May 19, 2023, from 8:45 a.m. to 2:45 p.m., PDT

FOR FURTHER INFORMATION CONTACT: Munira Mwalimu, Executive Officer/Designated Federal Official for the Governing Board, 800 North Capitol Street NW, Suite 825, Washington, DC 20002, telephone: (202) 357-6906, fax: (202) 357-6945, email: Munira.Mwalimu@ed.gov.

SUPPLEMENTARY INFORMATION:

Statutory Authority and Function: The Governing Board is established under the National Assessment of Educational Progress Authorization Act, Title III of Public Law 107-279 (20 U.S.C. 9621). Information on the Governing Board and its work can be found at www.nagb.gov. The Governing Board formulates policy for the National Assessment of Educational Progress (NAEP) administered by the National Center for Education Statistics (NCES). The Governing Board's responsibilities include:

“(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results from an assessment; and (10) planning and executing the initial public release of NAEP reports.”

Standing Committee Meetings

The Governing Board's standing committees will meet to conduct regularly scheduled work planned for the quarterly Board meeting and any items undertaken by standing committees for consideration by the full Governing Board. (Please see standing committee meeting minutes for previous meetings, available at https://www.nagb.gov/governing-board/quarterly-board-meetings.html). Standing committees will meet in advance of the May 2023 quarterly Board meeting. Standing committee meeting agendas and meeting materials will be posted on the Governing Board's website, www.nagb.gov, no later than five business days prior to the committee meetings.

Standing Committee Meetings

Tuesday, May 2, 2023

Nominations Committee (Closed Session)

5 p.m.-6 p.m. (ET), Virtual Meeting.

The Nominations Committee will meet virtually in closed session on Tuesday, May 2, 2023, from 5 p.m. to 6 p.m. to receive an update on nominations for Board terms beginning on October 1, 2023. The committee will discuss the internal nominations process and plans for the 2024 nominations cycle. These discussions pertain solely to internal personnel rules and practices of an agency and information of a personal nature where disclosure would constitute a clearly unwarranted invasion of personal privacy. As such, the discussions are protected by exemptions 2 and 6 of the Government Sunshine Act, 5 U.S.C. 552b(c).

Thursday, May 4, 2023

Executive Committee Meeting (Closed Session)

3 p.m.-4:30 p.m. (ET), Virtual Meeting.

The Executive Committee will meet virtually in closed session on Thursday, May 4, 2023, from 3:00 p.m. until 4:30 p.m. to discuss the NAEP and Governing Board's budgets, planned procurements and the NAEP Assessment Schedule. These discussions must be kept confidential to maintain the integrity of the federal budgeting and acquisition processes. Public disclosure of this confidential information would significantly impede implementation of the NAEP assessment program if conducted in open session. Such matters are protected by exemption 9(B) of the Government Sunshine Act, 5 U.S.C. 552b(c).

Monday, May 8, 2023

Reporting and Dissemination Committee (Open Session)

12:30 p.m.-2:30 p.m. (ET), Virtual Meeting.

The Reporting and Dissemination Committee will meet virtually on Monday, May 8, 2023, to receive a debriefing on the NAEP Civics and U.S. History release; results are planned to be released on May 3. The Committee will discuss the release plan for the Long-Term Trend results and how NAEP conducts and reports tests of statistical significance.

Wednesday, May 17, 2023

Assessment Development Committee (Hybrid Meeting)

10:30 a.m.-4:45 p.m. (PDT)

10:30 a.m.-11:45 a.m. (Open Session, hybrid session)

11:45 a.m.-12:15 p.m. (Closed Session, in person meeting)

1:30 p.m.-2:15 p.m. (Open Session, hybrid meeting)

2:15 p.m.-4:45 p.m. (Closed Session, in person meeting)

The Assessment Development Committee will meet in open session on Wednesday, May 17, 2023, at the Doubletree by Hilton Los Angeles Downtown from 10:30 a.m. to 4:45 p.m. From 10:30 a.m. to 11:45 a.m., the committee will meet in open session to discuss commissioned papers on the 2030 NAEP Writing Assessment Framework and potential updates to the Assessment Framework Development Policy.

From 11:45 a.m. until 12:15 p.m. the committee will meet in closed session to discuss independent cost estimates and budget matters related to framework updates. These discussions must be kept confidential to maintain the integrity of the federal budgeting and acquisition processes. Public disclosure of this confidential information would significantly impede implementation of the NAEP assessment program if conducted in open session. Such matters are protected by exemption 9(B) of the Government Sunshine Act, 5 U.S.C. 552b(c).

Following a break, the committee will reconvene in open session from 1:30 p.m. until 2:15 p.m. to discuss feedback from public comment on the NAEP Science Assessment Framework. From 2:15 p.m. until 4:45 p.m. the committee will meet in closed session to review secure and confidential pilot assessment items for 2024 Mathematics and Reading at grades 4 and 8. Public disclosure of this confidential information would significantly impede implementation of the NAEP assessment program if conducted in open session. Such matters are protected by exemption 9(B) of the Government Sunshine Act, 5 U.S.C. 552b(c).

Thursday, May 25, 2023

Committee on Standards, Design and Methodology (Open Session)

10 a.m.-12 p.m. (ET), Virtual

The Committee on Standards, Design and Methodology will meet virtually in open session on Thursday, May 25, 2023, from 10:00 a.m. until 12:00 p.m. to receive general updates on the committee's ongoing work, discuss Effect Sizes on NAEP, and responses to the Achievement Levels Communications Plans.

Quarterly Governing Board Meeting

The plenary sessions of the Governing Board's May 2023 quarterly meeting will be held on the following dates and times (PDT):

Thursday, May 18, 2023:

Open Meeting: 12:30 p.m.-3:30 p.m.; Closed Meeting: 3:45 p.m.-5:45 p.m.

Friday, May 19, 2023

Closed Meeting: 8:45 a.m.-9:45 a.m.; Open Meeting: 9:45 a.m.-11:45 a.m.; Closed Meeting: 11:45 a.m.-1:15 p.m.; Open Meeting: 1:15 p.m.-2:45 p.m.

Thursday, May 18, 2023

Plenary Session (Hybrid)

12:30-5:45 p.m. (PDT)

12:30-3:30 p.m. (Open Session)

3:45 p.m.-5:45 p.m. (Closed Session)

On Friday, May 18, 2023, the plenary session of the Governing Board meeting will convene in open session from 12:30 p.m. to 3:30 p.m. in open session. Governing Board Chair Beverly Perdue, will welcome members, followed by motions to approve the meeting agenda for the May 18-19, 2023, and meeting minutes from the March 2-3, 2023, Governing Board meeting. Thereafter, from 12:45 p.m. to 1:15 p.m., Lesley Muldoon, Executive Director of the Governing Board, will update members on ongoing work followed by an update from Mark Schneider, Director, Institute of Education Sciences (IES) from 1:15 p.m. until 1:45 p.m. From 1:45 p.m. until 2:15 p.m. the Board will receive updates from Peggy Carr, Commissioner, NCES, on NAEP activities. From 2:15 p.m. to 3:30 p.m. the Board will receive a briefing on Measuring Socioeconomic Status.

After a 15 minutes break, the meeting will re-convene in closed session from 3:45 p.m. to 5:45 p.m. to receive an update on the NAEP Budget and Assessment Schedule from NCES Commissioner Peggy Carr. These discussions must be kept confidential to maintain the integrity of the federal budgeting and acquisition processes. Public disclosure of this confidential information would significantly impede implementation of the NAEP assessment program if conducted in open session. Such matters are protected by exemption 9(B) of the Government Sunshine Act, 5 U.S.C. 552b(c). The May 18, 2023, session of the Board meeting will adjourn at 5:45 p.m.

Friday, May 19, 2023

Plenary Session (Hybrid)—8:45 a.m.-2:45 p.m. (PDT)

8:45 a.m.-9:45 a.m. (Closed Session)

9:45 a.m.-11:45 a.m. (Open Session)

11:45 a.m.-1:15 p.m. (Closed Session)

1:15 p.m.-2:45 p.m. (Open Session)

On May 19, 2023, the Governing Board will meet in closed session from 8:45 a.m. to 9:45 a.m. to continue discussion on the NAEP Budget and Assessment Schedule. These discussions must be kept confidential to maintain the integrity of the federal budgeting and acquisition processes. Public disclosure of this confidential information would significantly impede implementation of the NAEP assessment program if conducted in open session. Such matters are protected by exemption 9(B) of the Government Sunshine Act, 5 U.S.C. 552b(c).

The meeting will then transition to an open session from 9:45 a.m. to 11:15 a.m. to discuss public comment and recommendations on the Science Assessment Framework Update. From 11:15 a.m. until 11:45 a.m. the Board will engage in open discussion on future topics for consideration and ongoing work.

From 11:45 a.m. until 1:15 p.m., the Board will receive a briefing in a closed session on the embargoed results from the 2022 Long-Term Trend—age 13 assessment. These results have not been released to the public. Disclosure of this confidential information would significantly impede implementation of the NAEP assessment program if conducted in open session. Such matters are protected by exemption 9(B) of the Government Sunshine Act, 5 U.S.C. 552b(c).

Members then will then convene in open session from 1:15 p.m. until 2:45 p.m. to discuss the release plan for NAEP Long-Term Trend and Linking Studies. The May 19, 2023, session of the Governing Board meeting will adjourn at 2:45 p.m.

The quarterly Board meeting and standing committee meeting agendas, along with the meeting materials, will be posted on the Governing Board's website at www.nagb.gov no later than five working days prior to each meeting.

Instructions for Participating in the Meetings

Registration: Members of the public may attend all open sessions of the Governing Board's May 18-19, 2023, meetings in-person or virtually. A link to register for both the in-person and virtual attendance for the open sessions and instructions for how to register will be posted on the Governing Board's website at www.nagb.gov no later than 5 business days prior to each meeting. Registration is required to join the meeting virtually.

Public Comment: Written comments related to the work of the Governing Board and its committees may be submitted electronically or in hard copy to the attention of the Executive Officer/Designated Federal Official (DFO) via email at Munira.Mwalimu@ed.gov no later than 10 business days prior to the meeting. Written comments should be directed to the DFO as they relate to committee and Board meeting work and should reference the relevant agenda item.

Access to Records of the Meeting: Pursuant to 5 U.S.C. 1009(b), the public may inspect the meeting materials at www.nagb.gov, which will be made available no later than five business days prior to each meeting. The public may also inspect the meeting materials and other Governing Board records at 800 North Capitol Street NW, Suite 825, Washington, DC 20002, by emailing Munira.Mwalimu@ed.gov to schedule an appointment. The official verbatim transcripts of the open meeting sessions will be available for public inspection no later than 30 calendar days following each meeting and will be posted on the Governing Board's website. Requests for the verbatim transcriptions may be made via email to the DFO noted above.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Public Law 107-279, Title III, 301—National Assessment of Educational Progress Authorization Act (20 U.S.C. 9621).

Lesley Muldoon,
Executive Director, National Assessment Governing Board (NAGB), U.S. Department of Education.

[FR Doc. 2023-09114 Filed 4-28-23; 8:45 am]

BILLING CODE 4000-01-P